DEPARTMENT OF TRANSPORTATION

Federal Railroad Administration

Proposed Agency Information Collection Activities; Comment Request

AGENCY: Federal Railroad Administration, DOT.

ACTION: Notice.

SUMMARY: In accordance with the Paperwork Reduction Act of 1995 and its implementing regulations, the Federal Railroad Administration (FRA) hereby announces that it is seeking renewal of the following currently approved information collection activities. Before submitting these information collection requirements for clearance by the Office of Management and Budget (OMB), FRA is soliciting public comment on specific aspects of the activities identified below.

DATES: Comments must be received no later than October 27, 2003.

ADDRESSES: Submit written comments on any or all of the following proposed activities by mail to either: Mr. Robert Brogan, Office of Safety, Planning and Evaluation Division, RRS-21, Federal Railroad Administration, 1120 Vermont Ave., NW., Mail Stop 17, Washington, DC 20590, or Ms. Debra Steward, Office of Information Technology and Productivity Improvement, RAD-20, Federal Railroad Administration, 1120 Vermont Ave., NW., Mail Stop 35, Washington, DC 20590. Commenters requesting FRA to acknowledge receipt of their respective comments must include a self-addressed stamped postcard stating, “Comments on OMB control number ___.” Alternatively, comments may be transmitted via facsimile to (202) 493-6230 or (202) 493-6170, or E-mail to Mr. Brogan at robert.brogan@fra.dot.gov, or to Ms. Steward at debra.steward@fra.dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1120 Vermont Ave., NW., Mail Stop 17, Washington, DC 20590 (telephone: (202) 493-6292) or Debra Steward, Office of Information Technology and Productivity Improvement, RAD-20, Federal Railroad Administration, 1120 Vermont Ave., NW., Mail Stop 35, Washington, DC 20590 (telephone: (202) 493-6139). (These telephone numbers are not toll-free.)

SUPPLEMENTARY INFORMATION: The Paperwork Reduction Act of 1995 (PRA), Pub. L. No. 104-13, § 2, 109 Stat. 163 (1995) (codified as revised at 44 U.S.C. 3501-3520), and its implementing regulations, 5 CFR part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(i)-(iv); 5 CFR 1320.8(d)(1)(i)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below are brief summaries of the three currently approved information collection activities that FRA will submit for clearance by OMB as required under the PRA:

Title: Inspection Brake System Safety Standards For Freight and Other Non-Passenger Trains and Equipment (Power Brakes and Drawbars).

OMB Control Number: 2130-0008.

Abstract: Section 7 of the Rail Safety Enforcement and Review Act of 1992, Public Law No. 102-365, amended Section 202 of the Federal Railroad Safety Act of 1970 (45 U.S.C. 421, 431 et seq.), empowered the Secretary of Transportation to conduct a review of the Department's rules with respect to railroad power brakes and, where applicable, prescribe standards regarding dynamic brake equipment. In keeping with the Secretary's mandate and the authority delegated from him to the FRA Administrator, FRA recently published a comprehensive regulatory revision of the then current requirements related to the inspection, testing, and maintenance of the brake equipment used in freight car operations. The Final Rule focused solely on freight and other non-passenger trains, and codified and solidified the maintenance requirements related to the power brake system and its components. The collection of information is used by FRA to monitor and enforce safety requirements related to power brakes on freight cars. The collection of information is also used by locomotive engineers and road crews to verify that the terminal air brake test has been performed in a satisfactory manner.

Form Number(s): None.

Affected Public: Businesses.

Respondent Universe: 545 railroads.

Frequency of Submission: On occasion.

Affected Public: Businesses.

Reporting Burden:

CFR section | Respondent universe | Total annual responses | Average time per response | Total annual burden hours | Total annual burden cost
229.27—Annual Tests | 20,000 locomotives | 18,000 tests | 15 minutes | 4,500 | $166,500
232.1—Scope—Requests For Earlier Application of Requirements in Subparts A-C, F | 545 railroads | 4 requests | 1 hour | 4 | 224
232.3—Applicability—Cars Not Used in Service | 545 railroads | 8 cards | 10 minutes | 1 | 35
232.7—Waivers | 545 railroads | 20 petitions | 40 hours | 800 | 28,000
232.11—Penalties | 545 railroads | 1 false record | 10 minutes | .20 | 7
232.15—Movement of Defective Equipment | 1,620,000 cars/locomotives | 128,400 tags | 2.5 minutes | 5,350 | 197,950
—Notice of Defective Car/Locomotive and Restrictions | 1,620,000 cars/locomotives | 25,000 notices | 3 minutes | 1,060 | 46,250
232.17—Special Approval Procedure | 545 railroads | 4 petitions | 100 hours | 400 | 22,400
Petitions For Special Approval of Pre-Revenue Service Acceptance Testing Plan | 545 railroads | 2 petitions | 100 hours | 200 | 11,200
—Copies of Petitions For Special Approval Procedure | 545 railroads | 4 petitions | 40 hours | 160 | 5,600
—Statements of Interest | Public/railroads | 14 statements | 8 hours | 112 | 3,920
—Comments on Special Approval Procedure Petition | Public/railroads | 13 comments | 4 hours | 52 | 1,820
232.103—General Requirements For All Train Brakes | 370,000 cars | 66,660 stickers | 10 minutes | 11,110 | 230,644
232.105—General Requirements For Locomotives | 20,000 locomotives | 20,000 forms | 5 minutes | 1,667 | 61,679
232.107—Air Source Requirements—Plans To Monitor All Air Yard Sources: First Year | 545 railroads | 50 plans | 40 | 2,000 | 38,080
—Subsequent Years | 25 new railroads | 1 plan | 40 hours | 40 | 2,240
—Amendments to Plan | 50 existing plans | 10 amendments | 20 hours | 200 | 11,200
—Record Keeping | 50 existing plans | 1,150 records | 20 hours | 23,000 | 805,000
—Written Operating Procedures/Plans | 545 railroads | 37 plans | 20 hours | 740 | 41,440
232.109—Dynamic Brake Requirements—Records | 545 railroads | 1,656,000 records | 4 minutes | 110,400 | 3,864,000
—Repair of Inoperative Dynamic Brakes | 20,000 locomotives | 6,358 records | 4 minutes | 424 | 14,840
—Locomotives with Inoperative Dynamic Brakes—Tag | 20,000 locomotives | 6,358 tags | 30 seconds | 53 | 1,961
—Deactivated Dynamic Brakes—Markings | 8,000 locomotives | 2,800 markings | 5 minutes | 233 | 8,621
—Subsequent Years—Markings | 8,000 locomotives | 20 markings | 5 minutes | 2 | 74
—Written Operating Rules—Safe Train Handling | 545 railroads | 100 oper. rules | 4 hours | 400 | 22,400
—Subsequent Years—Safe Train Handling Procedures | 5 new railroads | 5 oper. rules | 4 hours | 20 | 1,120
—Amendments | 545 railroads | 15 amendments | 1 hour | 15 | 525
—Over Speed Top Rules | 545 railroads | 182 rules | 1 hour | 182 | 10,192
—Requests to Increase 5 MPH Overs Speed Restriction | 545 railroads | 5 requests | 20.5 hours | 103 | 3,605
—Locomotive Engineer Certification Programs/PBrake | 545 railroads | 100 amendments | 16 hours | 1,600 | 89,600
—Subsequent Years | 5 new railroads | 5 amendments | 16 hours | 80 | 4,480
232.111—Train Information Handling—Procedures | 545 railroads | 182 procedures | 50 hours | 9,100 | 509,600
—Subsequent Years | 10 new railroads | 10 procedures | 40 hours | 400 | 22,400
—Amendments | 100 railroads | 33 amendments | 20 hours | 660 | 23,100
—Reports to Train Crews | 545 railroads | 2,112,000 rpts | 10 minutes | 352,000 | 13,024,000
232.203—Training Requirements: Training Programs | 545 railroads | 100 programs | 100 hours | 10,000 | 560,000
—Subsequent Years | 15 railroads | 1 program | 100 hours | 100 | 5,600
—Amendments to Written Program | 545 railroads | 182 amendments | 8 hours | 1,456 | 50,960
—Training Records | 545 railroads | 67,000 records | 8 minutes | 8,933 | 312,655
—Training Notifications | 545 railroads | 67,000 notices | 3 minutes | 3,350 | 117,250
—Validation/Assessment Plans | 545 railroads | 545 copies | 40 hours/1 minute | 49 | 2,375
Amendments to Validation/Assessment Plans | 545 railroads | 50 amendments | 20 hours | 1,000 | 35,000
232.205—Class I Brake Test—Initial Terminal Insp | 545 railroads | 1,656,000 notices | 45 seconds | 20,700 | 931,500
232.207—Class I A Brake Tests: 1000 Mile Insp | 545 railroads | 8 designations | 30 minutes | 4 | 140
—Subsequent Years | 545 railroads | 1 designation | 1 hour | 1 | 35
—Amendments | 545 railroads | 5 amendments | 1 hour | 5 | 175
232.209—Class II Brake Tests—Intermediate Insp | 545 railroads | 1,600,000 | 3 seconds | 1,333 | 59,985
232.213—Extended Haul Trains—Designations | 84,000 train movements | 100 designations | 15 minutes | 25 | 875
—Records | 84,000 train movements | 25,200 records | 20 minutes | 8,400 | 294,000
232.303—General Requirements—Track Brake Test | 1,600,000 freight cars | 5,600 tags | 5 minutes | 467 | 17,279
—Location of Last Track Brake Test/Single Car Test | 1,600,000 freight cars | 320,000 stenciling | 5 minutes | 26,667 | 986,679
232.305—Single Car Tests | 1,600,000 freight cars | 320,000 tests/rcds | 45 minutes | 240,000 | 8,400,000
232.309—Equipment and Devices—Tests/Calibrations | 640 shops | 5,000 tests | 30 minutes | 2,500 | 92,500
232.403—Design Standards For One-way EOT Devices—Unique Code | 245 railroads | 12 requests | 5 minutes | 1 | 35
232.407—Operations Requiring 2-Way EOTs | 245 railroads | 50,000 30 commun | 30 seconds | 417 | 18,765
232.409—Inspection and Testing of 2-Way EOTs | 245 railroads | 450,000 commun | 30 seconds | 3,750 | 138,750
—Testing Telemetry Equipment | 245 railroads | 32,708 markings | 60 seconds | 545 | 20,165
232.503—Process to Introduce New Brake System Technology—Special Approval | 545 railroads | 1 request/letter | 60 minutes | 1 | 56
—Pre-Revenue Service Demonstration | 545 railroads | 1 request | 3 hours | 3 | 168
232.505—Pre-Revenue Service Acceptance Testing Plan: Maintenance Procedure—1st Year | 545 railroads | 1 procedure | 160 hours | 160 | 8,920
—Subsequent Years | 545 railroads | 1 procedure | 160 hours | 160 | 8,920
—Amendments | 545 railroads | 1 amendment | 40 hours | 40 | 1,400
—Design Descriptions—Petitions | 545 railroads | 1 petition | 67 hours | 67 | 3,752
—Results Pre-Revenue Service Acceptance Testing | 545 railroads | 1 report | 13 hours | 13 | 455
—Description of Brake Systems Technologies Previously Used in Revenue Service | 545 railroads | 5 descriptions | 40 hours | 200 | 7,000

Total Responses: 8,643,075.

Total Estimated Total Annual Burden: 857,415 hours.

Status: Regular Review.

Title: Regional Inspection Point Listing Forms.

OMB Control Number: 2130-0551.

Abstract: Through a direct comparison of inspection data with accident/incident data, the collection of information aims to develop a profile county-by-county of what there is to inspect, and how much inspection activity was done by Federal and State railroad inspectors each year nationwide. The information collected will produce “snapshots” which will allow FRA to determine where the gaps are in inspection territories so that it can focus inspection resources where they will do the most good. As a result of the collection of information, FRA will be better able to equalize inspector workloads, and will be better able to make informed hiring decisions regarding the most effective placement of new inspectors. More targeted inspections will permit FRA to maximize its limited resources, and will serve to enhance overall safety on the nation's rail system.

Form Number(s): FRA F 6180.106(a)-(e).

Affected Public: Businesses.

Respondent Universe: 545 railroads.

Reporting Burden:

CFR section | Respondent universe | Total annual responses | Average time per response | Total annual burden | Total annual burden cost
FRA 6180.106(a) | 20 inspectors | 280 records | 5 (in minutes) | 23 | $736
FRA 6180.106(b) | 35 inspectors | 315 records | 5 (in minutes) | 26 | 832
FRA 6180.106(c) | 30 inspectors | 300 records | 5 (in minutes) | 25 | 800
FRA 6180.106(d) | 12 inspectors | 108 records | 5 (in minutes) | 9 | 288
FRA 6180.106(e) | 40 inspectors | 360 records | 5 (in minutes) | 30 | 960

Total Responses: 1,363.

Total Estimated Total Annual Burden: 113 hours.

Status: Regular Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC, on August 19, 2003.
Kathy A. Weiner,
Director, Office of Information Technology and Support Systems, Federal Railroad Administration.

[FR Doc. 03-21765 Filed 8-25-03; 8:45 am]

BILLING CODE 4910-06-P